DEPARTMENT OF TRANSPORTATION

Federal Aviation Administration

[Summary Notice No. PE-2004-38]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on June 17, 2004.
Donald P. Byrne,
Assistant Chief Counsel for Regulations.

Dispositions of Petitions

Docket No.: FAA-2001-10583.

Petitioner: Aero Sports Connection.

Section of 14 CFR Affected: 14 CFR 103.1(a).

Description of Relief Sought/Disposition: To permit Aero Sports Connection to operate unpowered ultralight vehicles with another occupant for the purpose of sport and recreation. Grant, 5/25/2004, Exemption No. 8330

Docket No.: FAA-2001-10717.

Petitioner: Westjet Air Center, Inc.

Section of 14 CFR Affected: 14 CFR 61.3(a) and (c).

Description of Relief Sought/Disposition: To permit Westjet Air Center, Inc., to issue to its pilot flight crewmembers written confirmation of an individual Federal Aviation Administration-issued crewmember certificate based on information in Westjet's approved record system. Grant, 5/28/2004, Exemption No. 8331.

Docket No.: FAA-2004-17392.

Petitioner: Red Knight Air Shows, Inc.

Section of 14 CFR Affected: 14 CFR 91.319(a)(2).

Description of Relief Sought/Disposition: To permit Red Knight Air Shows, Inc., to operate its Canadair T-33 aircraft, with a special airworthiness certificate in the experimental category, for the purpose of carrying passengers on local flights in return for donations. Denial, 5/28/2004, Exemption No. 8332.

Docket No.: FAA-2003-14879.

Petitioner: Xtrajet, Inc.

Section of 14 CFR Affected: 14 CFR 135.152(a).

Description of Relief Sought/Disposition: To permit Xtrajet, Inc., to operate 1 Gulfstream G-1159 airplane (Registration No. N628HC, Serial No. 134) under part 135 without the airplane being equipped with an approved digital flight data recorder. Grant, 5/27/2004, Exemption No. 8044.

Docket No.: FAA-2002-11574.

Petitioner: AirNet Systems, Inc.

Section of 14 CFR Affected: 14 CFR 135.143(c)(2).

Description of Relief Sought/Disposition: To permitAirNet Systems, Inc., to operate certain aircraft under part 135 without a TSO-C112 (Mode S) transponder installed on those aircraft. Grant, 5/27/2004, Exemption No. 6772C.

Docket No.: FAA-2001-8741.

Petitioner: Cessna Aircraft Company.

Section of 14 CFR Affected: 14 CFR 145.37(b).

Description of Relief Sought/Disposition: To permit owners and operators of Cessna Models 172R, 172S, 182S, 208 Caravan I, and 208B Caravan I airplanes to use Cessna's PhaseCard IP inspection program, rather than completing the required 100-hour inspection. Grant, 5/18/2004, Exemption No. 6901D.

Docket No.: FAA-2002-13292.

Petitioner: Southern California Aviation, LLC.

Section of 14 CFR Affected: 14 CFR 145.35(a) and 145.37(b).

Description of Relief Sought/Disposition: To permit Southern California Aviation, LLC, to perform aircraft storage-related maintenance on transport category airplanes without meeting the housing and facility requirements of §§ 145.35 and 145.37. Denial, 5/19/2004, Exemption No. 8325.

Docket No.: FAA-2004-17769.

Petitioner: Westwood Aviation Institute.

Section of 14 CFR Affected: 14 CFR 65.71(a)(2).

Description of Relief Sought/Disposition: To permit Ryan Rasberry to the extent necessary, to be eligible for a mechanic certificate and associated ratings although he is hearing impaired and unable to speak the English language. Grant, 5/18/2004, Exemption No. 8324.

Docket No.: FAA-2003-15467.

Petitioner: Snecma Services.

Section of 14 CFR Affected: 14 CFR 145.51.

Description of Relief Sought/Disposition: To permit two Snecma Services repair stations (Certification Nos. NM1Y353K and NM12353K) to perform engine maintenance on a regular basis at locations other than the fixed location specified on each repair station certificate. Denial, 5/18/2004, Exemption No. 8322.

Docket No.: FAA-2004-17904.

Petitioner: Hawaii Helicopters.

Section of 14 CFR Affected: 14 CFR 135.143(c)(2).

Description of Relief Sought/Disposition: To permit Hawaii Helicopters to operate certain aircraft under part 135 without a TSO-C112 (Mode S) transponder installed on those aircraft. Grant, 5/25/2004, Exemption No. 8328.

Docket No.: FAA-2002-11841.

Petitioner: Warbelow's Air Ventures, Inc.

Section of 14 CFR Affected: 14 CFR 135.143(c)(2).

Description of Relief Sought/Disposition: To permit Warbelow's Air Ventures, Inc., to operate certain aircraft under part 135 without a TSO-C112 (Mode S) transponder installed on those aircraft. Grant, 5/25/2004, Exemption No. 7344B.

Docket No.: FAA-2004-17207.

Petitioner: Thrush Aircraft, Inc.

Section of 14 CFR Affected: 14 CFR 61.31(a)(1).

Description of Relief Sought/Disposition: To permit Thrush Aircraft, Inc., and pilots who serve as pilots in command to operate an Ayres Model S2R-T660 without holding a type rating for that aircraft, subject to conditions and limitations. Grant, 5/21/2004, Exemption No. 8327.

Docket No.: FAA-2002-12251.

Petitioner: Priority Air, Inc.

Section of 14 CFR Affected: 14 CFR 135.143(c)(2).

Description of Relief Sought/Disposition: To permit Priority Air, Inc., to operate certain aircraft under part 135 without a TSO-C112 (Mode S) transponder installed on those aircraft. Grant, 5/24/2004, Exemption No. 7806A.

Docket No.: FAA-2002-12104.

Petitioner: Lake and Pen Air, Inc.

Section of 14 CFR Affected: 14 CFR 135.143(c)(2).

Description of Relief Sought/Disposition: To permit Lake and Pen Air, Inc., to operate certain aircraft under part 135 without a TSO-C112 (Mode S) transponder installed on those aircraft. Grant, 5/24/2004, Exemption No. 7357B.

Docket No.: FAA-2004-17667.

Petitioner: Shoreline Helicopters.

Section of 14 CFR Affected: 14 CFR 135.143(c)(2).

Description of Relief Sought/Disposition: To permit Shoreline Helicopters to operate certain aircraft under part 135 without a TSO-C112 (Mode S) transponder installed on those aircraft. Grant, 5/24/2004, Exemption No. 8326.

Docket No.: FAA-2001-10967.

Petitioner: Experimental Aircraft Association.

Section of 14 CFR Affected: 14 CFR 135.251, 135.255, and 135.353, and appendices I and J to part 121.

Description of Relief Sought/Disposition: To permit Experimental Aircraft Association members to conduct local sightseeing flights at charity or community events, for compensation or hire, without complying with certain antidrug and alcohol misuse prevention requirements of part 135. Grant, 5/20/2004, Exemption No. 7111C.

Docket No.: FAA-2002-11591.

Petitioner: Aircraft Owners and Pilots Association.

Section of 14 CFR Affected: 14 CFR 135.251, 135.255, and 135.353, and appendices I and J to part 121.

Description of Relief Sought/Disposition: To permit Aircraft Owners and Pilots Association members to conduct local sightseeing flights at charity or community events, for compensation or hire, without complying with certain antidrug and alcohol misuse prevention requirements of part 135. Grant, 5/20/2004, Exemption No. 7112C.

Docket No.: FAA-2004-17561.

Petitioner: B/E Aerospace, Inc.

Section of 14 CFR Affected: 14 CFR 21.325(b)(3).

Description of Relief Sought/Disposition: To permit B/E Aerospace, Inc., facilities in Leighton-Buzzard Bedfordshire, England, and Kilkeel County Down, Northern Ireland, to issue U.S. export airworthiness approvals for Class II and Class III products. Grant, 5/28/2004, Exemption No. 8334.

Docket No.: FAA-2002-11752.

Petitioner: Peninsula Airways, Inc.

Section of 14 CFR Affected: 14 CFR 91.411(b) and 91.413(c).

Description of Relief Sought/Disposition: To permit Peninsula Airways, Inc., to perform ATC transponder tests and inspections and altimeter system and altimeter reporting equipment tests and inspections for its 14 CFR part 121 aircraft maintained under a continuous airworthiness maintenance program. Grant, 5/28/2004, Exemption No. 7770A.

Docket No.: FAA-2004-17911.

Petitioner: Friends of Allen County Airport.

Section of 14 CFR Affected: 14 CFR 135.251, 135.255, and 135.353, and appendices I and J to part 121.

Description of Relief Sought/Disposition: To permit Friends of Allen County Airport to conduct local sightseeing flights at the Allen County Airport, Iola, Kansas, for sightseeing flights during June 2004, for compensation or hire, without complying with certain anti-drug and alcohol misuse prevention requirements of part 135, subject to certain conditions and limitations. Grant, 6/4/2004, Exemption No. 8337.

Docket No.: FAA-2004-17708.

Petitioner: Mentone Flying Club.

Section of 14 CFR Affected: 14 CFR 135.251, 135.255, and 135.353, and appendices I and J to part 121.

Description of Relief Sought/Disposition: To permit Mentone Flying Club to conduct local sightseeing flights at the Round Barn Festival at the Fulton County Airport, during the weekend of June 12-13, 2004, for compensation or hire, without complying with certain anti-drug and alcohol misuse requirements of part 135, subject to certain conditions and limitations. Grant, 6/3/2004, Exemption No. 8336.

Docket No.: FAA-2002-12590.

Petitioner: United States Hang Gliding Association.

Section of 14 CFR Affected: 14 CFR 91.309 and 103.1(b).

Description of Relief Sought/Disposition: To permit United States Hang Gliding Association members to tow unpowered ultralight vehicles (hang gliders) using powered ultralight vehicles. Grant, 6/3/2004, Exemption No. 4144J.

Docket No.: FAA-2002-11595.

Petitioner: American Eagle Airlines, Inc.

Section of 14 CFR Affected: 14 CFR 121.434(c)(1)(ii).

Description of Relief Sought/Disposition: To permit American Eagle Airlines, Inc., to substitute a qualified and authorized check airman in place of a Federal Aviation Administration inspector to observe a qualifying pilot in command while that pilot in command is performing prescribed duties during at least one flight leg that includes a takeoff and a landing when completing initial or upgrade training as specified in § 121.424. Grant, 6/4/2004, Exemption No. 7252B.

[FR Doc. 04-14201 Filed 6-22-04; 8:45 am]

BILLING CODE 4910-13-P